DEPARTMENT OF STATE

Bureau of Consular Affairs/

22 CFR Part 41

[Public Notice 3627]

RIN 1400-AA97

Visas: Nonimmigrant Visa Fees—Fee Reduction for Border Crossing Cards for Mexicans Under Age 15

AGENCY: Bureau of Consular Affairs, DOS.

ACTION: Final rule.

SUMMARY: This rule amends the Department's regulation regarding the collection of fees for certain Mexican citizens under the age of 15 who are applying in Mexico for a machine-readable combined border crossing card and nonimmigrant visa. The change in the regulation is necessitated by a chang in pertinent legislation. The effect of the change is to authorize consular officers to collect reduced fees in certain instances.

DATES: This rule takes effect on April 2, 2001.

FOR FURTHER INFORMATION CONTACT: Pam Chavez, Office of Legislation and Regulations Division, Visa Services, Department of State, Washington, DC 20520-0106, (202) 663-1206.

SUPPLEMENTARY INFORMATION:

Why Is the Department Amending the Regulation?

Public law 103-236 authorized the Department to collect a surcharge for processing the machine-readable combined border crossing card and nonimmigrant visa. Section 410 of Pub. L. 105-277 reduced the fee for certain Mexican citizens under the age of 15, if the application is made in Mexico by a person who has at least one parent or guardian who has a visa or is applying for a machine-readable combined border crossing card and nonimmigrant visa. The Department is, therefore, amending its regulation at 22 CFR 41.107 to comport with the statute.

How Is the Department Amending Its Regulation?

The Department is amending 22 CFR 41.107(e) by adding a new paragraph authorizing consular officers to collect a reduced visa processing fee from certain Mexican citizens under the age of 15. The fee, to be designated by the Secretary of State, shall be in an amount that will recover only the cost of manufacturing the combined B-1/B-2/BCC. The statute specifies that such combined border crossing card and nonimmigrant visa shall be valid for 10 years or until such time as the child reaches the age of 15, whichever occurs first.

Administrative Procedure Act

The Department's implementation of this regulation as a final rule is based upon the “good cause” exceptions found at 5 U.S.C. 553(b)(B) and (d)(3). Since this rule provides for a reduction of fees thus bestowing a benefit on a certain class of aliens, the Department does not feel it necessary to publish a proposed rule nor a need to solicit comments.

Regulatory Flexibility Act

The Department of State, in accordance with the Regulatory Flexibility Act (5 U.S.C. 605(b), has reviewed this regulation and, by approving it, certified that this rule will not have a significant economic impact on a substantial number of small entities.

Unfunded Mandates Reform Act of 1995

This rule will not result in the expenditure by state, local and tribal governments, in the aggregate, or by the private sector, of $100 million or more in any year and it will not significantly or uniquely affect small governments. Therefore, no actions were deemed necessary under the provisions of the Unfunded Mandates Reform Act of 1995.

Small Business Regulatory Enforcement Fairness Act of 1996

This rule is not a major rule as defined by section 804 of the Small Business Regulatory Enforcement Act of 1996. This rule will not result in an annual effect on the economy of $100 million or more; a major increase in costs or prices; or significant adverse effects on competition, employment, investment, productivity, innovation, or on the ability of United States-based companies to compete with foreign-based companies in domestic and export markets.

Executive Order 12866

The Department of State does not consider this rule to be a “significant regulatory action” under Executive Order 12866, section 3(f), Regulatory Planning and Review, and the Office of Management and Budget has waived its review process under section 6(a)(3)(A).

Executive Order 13132

This regulation will not have substantial direct effects on the states, on the relationship between the national government and the states, or on the distribution of power and responsibilities among the various levels of government. Therefore, in accordance with section 6 of Executive Order 13132, it is determined that this rule does not have sufficient federalism implications to warrant the preparation of a federalism summary impact statement.

Paperwork Reduction Act

This rule does not impose any new reporting or record-keeping requirements.

List of Subjects in 22 CFR Part 41

Aliens, nonimmigrants, passports and visas.

Accordingly, this rule amends 22 CFR part 41 as follows:

PART 41—[AMENDED]

1. The authority citation for Part 41 shall continue to read:

Authority: 8 U.S.C. 1104; Pub. L. 105-277, 112 Stat. 2681 et seq.

2. Amend 22 CFR 41.107 by designating paragraph (e) as paragraph (e)(1) and adding a new paragraph (e)(2) to read as follows:

§ 41.107 Visa fees.

* * * * *

(e)(1) * * *

(2) Notwithstanding paragraph (e)(1) of this section, a consular officer shall collect or insure the collection of a processing fee for a machine-readable combined border crossing card and nonimmigrant visa in an amount determined by the Secretary and set forth in 22 CFR 22.1 to be sufficient only to cover the cost for manufacturing the combined card and visa if:

(i) The alien is a Mexican citizen under the age of 15;

(ii) The alien is applying in Mexico; and

(iii) The alien has at least one parent or guardian who has a visa or is applying for a machine-readable combined border crossing card and visa.

Dated: March 16, 2001.
Mary A. Ryan,
Assistant Secretary for Consular Affairs, Department of State.

[FR Doc. 01-8038 Filed 3-30-01; 8:45 am]

BILLING CODE 4710-10-U